FEDERAL ACCOUNTING STANDARDS ADVISORY BOARD

Notice of Request for Comment on an Exposure Draft Titled Management's Discussion and Analysis: Rescinding and Replacing SFFAS 15

AGENCY: Federal Accounting Standards Advisory Board.

ACTION: Notice.

SUMMARY: Notice is hereby given that the Federal Accounting Standards Advisory Board (FASAB) has released an exposure draft titled Management's Discussion and Analysis: Rescinding and Replacing SFFAS 15. Respondents are encouraged to comment on any part of the exposure draft.

DATES: Written comments are requested by December 7, 2023.

ADDRESSES: Written comments should be submitted via https://gaosurvey.gao.gov/jfe/form/SV_6thq8SVhOJtNtWu or sent to fasab@fasab.gov. Emails should be addressed to Monica R. Valentine, Executive Director, Federal Accounting Standards Advisory Board, 441 G Street NW, Suite 1155, Washington, DC 20548. The exposure draft is available on the FASAB website at https://www.fasab.gov/documents-for-comment/. Copies can be obtained by contacting FASAB at (202) 512-7350.

FOR FURTHER INFORMATION CONTACT: Ms. Monica R. Valentine, Executive Director, 441 G Street NW, Suite 1155, Washington, DC 20548, or call (202) 512-7350.

(Authority: 31 U.S.C. 3511(d); Federal Advisory Committee Act, 5 U.S.C. 1001-1014.)

Dated: September 7, 2023.
Monica R. Valentine,
Executive Director.

[FR Doc. 2023-19620 Filed 9-11-23; 8:45 am]

BILLING CODE 1610-02-P